NUCLEAR REGULATORY COMMISSION

[Docket Nos. 50-247 and 50-286, License Nos. DPR-26 and DPR-64]

Entergy Nuclear Operations, Inc., Entergy Nuclear Indian Point 2, LLC, Entergy Nuclear Indian Point 3, LLC, Indian Point Nuclear Generating Unit Nos. 2 and 3 (IP2 and IP3); Receipt of Request for Action Under 10 CFR 2.206

Notice is hereby given that by petition dated March 30, 2008, Mr. Sherwood Martinelli has requested that the NRC (1) “* * * suspend the license for IP2 and IP3 reactors located in Buchanan, NY owned by Entergy until they are fully in compliance with all 10 CFR Rules and Regulations, as well as other local, state and federal laws and regulations, and have eliminated the environmental risks that have contributed to, and/or caused my wife's breast cancer,” and (2) “* * * halt the License Renewal Process.”

The request is being treated pursuant to 10 CFR 2.206 of the Commission's regulations. The request has been referred to the Director of the Office of Nuclear Reactor Regulation (NRR). The Petitioner participated in a conference call with the NRR Petition Review Board (PRB) on August 14, 2008, to discuss the petition. The additional information provided by the Petitioner was considered by the PRB before making its final recommendation. By letter dated September 15th, 2008, the Director accepted for review, pursuant to 10 CFR 2.206, the Petitioner's concerns regarding the licensee's failure to implement the new emergency notification siren system in a timely manner. The Director also informed the Petitioner that the siren issues in this petition would be combined with the Petitioner's earlier petition on the new siren system, dated September 28, 2007. The earlier petition was noticed in the Federal Register on February 25, 2008 (73 FR 10068). The Director informed the Petitioner that his issues on groundwater contamination were considered by the NRC in response to an earlier petition by the Petitioner. A Final Director's Decision was issued on August 14, 2008, and noticed in the Federal Register on August 21, 2008 (73 FR 49495). The NRC found that the licensee was in compliance with the pertinent NRC regulatory requirements on the release of radioactive isotopes and that public health and safety have not been, nor are likely to be, adversely affected.

As provided by Section 2.206, appropriate action will be taken on this petition within a reasonable time.

A copy of the petition and the transcript of the conference call with the PRB can be located at Agencywide Documents Access and Management Systems Accession Nos. ML080950265 and ML082330375, respectively, and are available for inspection at the Commission's Public Document Room, located at One White Flint North, 11555 Rockville Pike (first floor), Rockville, Maryland.

Dated at Rockville, Maryland, this 15th day of September 2008.
For the Nuclear Regulatory Commission.
Eric J. Leeds,
Director, Office of Nuclear Reactor Regulation.

[FR Doc. E8-22356 Filed 9-23-08; 8:45 am]

BILLING CODE 7590-01-P